DEPARTMENT OF LABOR

Office of the Secretary

Agency Information Collection Activities: Proposed Collection; Comment Request

AGENCY: GovBenefits Office, U.S. Department of Labor.

ACTION: Notice of an opportunity for public comment.

SUMMARY: The Department of Labor, as part of its continuing effort to reduce paperwork and respondent burden, conducts a pre-clearance consultation program to provide the general public and Federal agencies with an opportunity to comment on proposed the proposed continued collections of information in accordance with the Paperwork Reduction Act of 1995 (PRA95) [44 U.S.C. 3506 C (2)(A)]. This program helps to ensure that requested data can be provided in the desired format, reporting burden (time and financial resources) is minimized, collection instruments are clearly understood, and the impact of collection requirements on respondents can be properly assessed. A copy of the proposed information collection request (ICR) can be obtained by contacting the office listed below in the ADDRESS section of this notice.

DATE: Comments are to be submitted by August 13, 2002.

ADDRESS: A copy of the ICR and supporting documentation as submitted to the Office of Management and Budget can be obtained by contacting the Department of Labor. To obtain copies, contact Darrin King on 202-693-4129 or email: king_darrin@dol.gov. Send comments regarding this proposed collection of information, including suggestions for reducing the burden to the U.S. Department of Labor, GovBenefits Office, FPB, Room N-4309, Washington, D.C. 20210.

SUPPLEMENTARY INFORMATION:

I. Background

The President's Management Agenda for E-Government (February 27, 2002) sets forth a strategy for simplifying the delivery of services to citizens. The President's agenda outlines a Federal E-Government Enterprise Architecture that will transition the management and delivery of government services from a bureaucracy-centered to a citizen-centered paradigm. To this end, the Department of Labor serves as the managing partner of the Administration's “GovBenefits” (formerly Eligibility Assistance Online”) strategy for assisting citizens in identifying and locating information on benefits sponsored by the Federal government. This tool will greatly reduce the burden on citizens attempting to locate services available from many different government agencies by providing one-stop access to information on obtaining those services.

From time-to time, the precise questions or content my require modification to accommodate addition to the GovBenefits portal as well as new or revised services. Furthermore, while the initial launch version scheduled for April 2002 does not “collect” information, to better serve citizens through website design, subsequent versions may need to collect user demographics such as “average age.” Respondents answer a series of questions to the extent necessary for locating relevant information on Federal benefits. Responses are used by the respondent to expedite the identification and retrieval of sought after information and resources pertaining to the benefits sponsored by the Federal Government.

II. Desired Focus of Comments

The Department of Labor is particularly interested in comments which:

• Evaluate whether the proposed collection of information is necessary for the proper performance of the functions of the agency, including whether the information will have practical utility;

• evaluate the accuracy of the agency's estimate of the burden of the proposed collection of information; including the validity of the methodology and assumptions used.

• enhance the quality, utility, and clarity of the information to be collected; and

• minimize the burden of the collection of information on those who are to respond, including through the use of appropriate automated, electronic, mechanical, or other technological collection techniques or other forms of information technology, e.g., permitting electronic submissions of responses.

III. Current Actions

This notice requests approval from OMB for the collection of information required for locating information on the GovBenefits web site.

Type of Review: Extension of a currently approved collection.

Agency: Office of the Secretary.

Title: Information Collection Plan for GovBenefits.

OMB Number: 1290-0003.

Affected Public: Not-for-profit institutions.

Frequency: On occasion.

Number of Respondents: 500,000.

Number of Responses: 500,000.

Average Time Per Response: 2.5 minutes.

Estimated Burden Hours: 20,000.

Total Annualized Capital/startup costs: $0.

Total Initial Annual Costs: $0.

Comments submitted in response to this notice will be summarized and included in the agency's request for OMB approval of the information collection request. Comments will become a matter of public record.

Dated: June 10, 2002.
George Wollner,
Department of Labor, GovBenefits Project Manager.

[FR Doc. 02-15071 Filed 6-13-02; 8:45 am]

BILLING CODE 4510-23-P